DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director Compliance, tel.: 202-622-2490.

SUPPLEMENTARY INFORMATION:

Electronic Availability

The SDN List and additional information concerning OFAC sanctions programs are available on OFAC's website (https://www.treasury.gov/ofac).

Notice of OFAC Actions

On July 31, 2024, OFAC determined that the property and interests in property subject to U.S. jurisdiction of the following persons are blocked under the relevant sanctions authorities listed below.

Individual

1. AL-SHAHARE, Ahmed Khaled Yahya (a.k.a. ALSHAHARE, Ahmed Khaled Yahya), Guangzhou, China; DOB 1990; nationality Yemen; Gender Male; Secondary sanctions risk: section 1(b) of Executive Order 13224, as amended by Executive Order 13886; Passport 06085991 (Yemen) expires 14 Mar 2022 (individual) [SDGT] (Linked To: GUANGZHOU ALSHAHARI UNITED CORPORATION LIMITED).

Designated pursuant to section 1(a)(iii)(E) of Executive Order 13224 of September 23, 2001, “Blocking Property and Prohibiting Transactions With Persons Who Commit, Threaten to Commit, or Support Terrorism” (E.O. 13224), 66 FR 49079, as amended by Executive Order 13886 of September 9, 2019, “Modernizing Sanctions To Combat Terrorism,” 84 FR 48041, 3 CFR, 2019 Comp., p. 356 (E.O. 13224, as amended) for being a leader or official of, GUANGZHOU ALSHAHARI UNITED CORPORATION LIMITED, a person whose property and interests in property are blocked pursuant to E.O. 13224, as amended.

2. AL-KINAI, Maher Yahya Muhammad Mutahar (a.k.a. AL-KAYNA'I, Mahir Yahya; a.k.a. AL-KAYNA'I, Mahir Yahya Muhammad), Sanaa, Yemen; DOB 1987; nationality Yemen; Gender Male; Secondary sanctions risk: section 1(b) of Executive Order 13224, as amended by Executive Order 13886; National ID No. 01010036435 (Yemen) (individual) [SDGT] (Linked To: ANSARALLAH). Designated pursuant to section 1(a)(iii)(C) of E.O. 13224, as amended, for having materially assisted, sponsored, or provided financial, material, or technological support for, or goods or services to or in support of, ANSARALLAH, a person whose property and interests in property are blocked pursuant to E.O. 13224.

Entities

1. AL-SHAHARI UNITED CORPORATION LTD, Office 602, Al Kinddy Tower, Haddah Street, Sanaa, Yemen; Secondary sanctions risk: section 1(b) of Executive Order 13224, as amended by Executive Order 13886; Organization Established Date 2016; Organization Type: Other transportation support activities [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224.

2. GUANGZHOU ALSHAHARI UNITED CORPORATION LIMITED (a.k.a. GUANGZHOU SHA HAOLI TRADING CO., LTD.), Zhu Jiang Xi Lu 15 Hao 21 Ceng, Guangzhou, Guangdong 510000, China; Secondary sanctions risk: section 1(b) of Executive Order 13224, as amended by Executive Order 13886; Organization Established Date 01 Sep 2016; Registration Number 440101400191266 (China); Unified Social Credit Code (USCC) 91440101MA59ELM08Q (China) [SDGT] (Linked To: AL-SHAHARI UNITED CORPORATION LTD).

Designated pursuant to section 1(a)(iii)(C) of E.O. 13224, as amended, for having materially assisted, sponsored, or provided financial, material, or technological support for, or goods or services to or in support of, AL-SHAHARI UNITED CORPORATION LTD, a person whose property and interests in property are blocked pursuant to E.O. 13224.

3. HONGKONG ALSHAHARI UNITED CORPORATION LIMITED, Hong Kong, China; Secondary sanctions risk: section 1(b) of Executive Order 13224, as amended by Executive Order 13886; Organization Established Date 27 Jun 2016; Company Number 2395642 (Hong Kong); Business Registration Number 66349242 (Hong Kong) [SDGT] (Linked To: GUANGZHOU ALSHAHARI UNITED CORPORATION LIMITED).

Designated pursuant to section 1(a)(iii)(B) of E.O. 13224, as amended, for owning or controlling, directly or indirectly, GUANGZHOU ALSHAHARI UNITED CORPORATION LIMITED, a person whose property and interests in property are blocked pursuant to E.O. 13224.

4. YEMEN TELECOMMUNICATION ASSET COMPANY FOR INFORMATION TECHNOLOGY (a.k.a. YTAC COMPANY; a.k.a. “Y-TAC”), Bayt Baws, Sanaa, Yemen; Secondary sanctions risk: section 1(b) of Executive Order 13224, as amended by Executive Order 13886; Organization Established Date 20 Dec 2020; Trade License No. 295003 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224.

Dated: July 31, 2024
Bradley T. Smith,
Director, Office of Foreign Assets Control, U.S. Department of the Treasury.

[FR Doc. 2024-18102 Filed 8-13-24; 8:45 am]

BILLING CODE 4810-AL-P